NATIONAL AERONAUTICS AND SPACE ADMINISTRATION

[Notice: (10-084)]

NASA Advisory Council; Ad-Hoc Task Force on Planetary Defense; Meeting

AGENCY: National Aeronautics and Space Administration.

ACTION: Notice of meeting.

SUMMARY: In accordance with the Federal Advisory Committee Act, Public Law 92-463, as amended, the National Aeronautics and Space Administration announces a two-part meeting of the Ad-Hoc Task Force on Planetary Defense of the NASA Advisory Council.

DATES: Tuesday, August 17, 2010, 12 p.m.-3 p.m., and Friday, August 20, 2010, 12 p.m.-3 p.m. All times are Eastern Daylight Time.

ADDRESSES: The meeting will be held via WebEx/Teleconference on both dates.

• August 17, 12 p.m.-3 p.m.: To view briefings, log in to Web site at https://nasa.webex.com. Meeting Number: 993 545 318. Passcode: Tuesday817! Join teleconference by dialing toll-free 888-566-1673. Passcode: 12080.

• August 20, 12 p.m.-3 p.m.: To view briefings, log in to Web site at https://nasa.webex.com. Meeting Number: 995 328 530. Passcode: Friday820! Join teleconference by dialing toll-free 888-566-1673. Passcode: 12080.

FOR FURTHER INFORMATION CONTACT: Ms. Jane Parham, Exploration Systems Mission Directorate, National Aeronautics and Space Administration Headquarters, Washington, DC 20546, 202-358-1715, jane.parham@nasa.gov.

SUPPLEMENTARY INFORMATION: The agenda topic is: Drafting of the Ad-Hoc Task Force on Planetary Defense Final Report to the NASA Advisory Council. The meeting will be open to the public up to the capacity of WebEx and teleconference lines. It is imperative that the meeting be held on these dates to accommodate the scheduling priorities of the key participants.

For questions, please call Jane Parham, 202-358-1815, jane.parham@nasa.gov.

Dated: July 19, 2010.
P. Diane Rausch,
Advisory Committee Management Officer, National Aeronautics and Space Administration.

[FR Doc. 2010-18147 Filed 7-23-10; 8:45 am]

BILLING CODE P